DEPARTMENT OF COMMERCE

International Trade Administration

[A-570-851]

Certain Preserved Mushrooms from the People's Republic of China: Initiation of New Shipper Antidumping Duty Review

AGENCY: Import Administration, International Trade Administration, Department of Commerce.

ACTION: Notice of Initiation of New Shipper Antidumping Review for the period February 1, 2001, through January 31, 2002.

EFFECTIVE DATE: April 4, 2002.

SUMMARY: The Department of Commerce has received requests to conduct a new shipper review of the antidumping duty order on certain preserved mushrooms from the People's Republic of China. In accordance with section 751(a)(2)(B) of the Tariff Act of 1930, as amended, and 19 C.F.R. 351.214(d), we are initiating a review for Guangxi Yulin Oriental Food Co., Ltd., Shenzhen Qunxingyuan Trading Co., Ltd., and Zhangzhou Jingxiang Foods Co., Ltd.

FOR FURTHER INFORMATION CONTACT: Brian Smith, Import Administration, International Trade Administration, U.S. Department of Commerce, 14th Street and Constitution Avenue, N.W., Washington, D.C. 20230; telephone (202) 482-1766.

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to 19 C.F.R. Part 351 (2001).

SUPPLEMENTARY INFORMATION:

Background

The Department has received timely requests from Guangxi Yulin Oriental Food Co., Ltd. (“Guangxi Yulin”), Shenzhen Qunxingyuan Trading Co., Ltd. (“Shenzhen Qunxingyuan”), and Zhangzhou Jingxiang Foods Co., Ltd. (“Zhangzhou Jingxiang”), in accordance with 19 C.F.R. 351.214(c), for a new shipper review of the antidumping duty order on certain preserved mushrooms from the People's Republic of China (“PRC”), which has a February anniversary month.

As required by 19 C.F.R. 351.214(b)(2)(i), (ii), and (iii)(A), each company identified above has certified that it did not export certain preserved mushrooms to the United States during the period of investigation (“POI”), and that it has never been affiliated with any exporter or producer which exported certain preserved mushrooms during the POI. Each company has further certified that its export activities are not controlled by the central government of the PRC, pursuant to the requirements of 19 C.F.R. 351.214(b)(2)(iii)(B). Pursuant to the Department's regulations at 19 C.F.R. 351.214(b)(2)(iv)(A), each company submitted documentation establishing the date on which it first shipped the subject merchandise to the United States, the date of entry of that first shipment, the volume of that shipment and the date of the first sale to an unaffiliated customer in the United States.

In accordance with section 751(a)(2)(B) of the Act, as amended, and 19 C.F.R. 351.214(b), and based on information on the record, we are initiating a new shipper review for Guangxi Yulin, Shenzhen Qunxingyuan and Zhangzhou Jingxiang.

Initiation of Review

In accordance with section 751(a)(2)(B)(ii) of the Act and 19 C.F.R. 351.214(d)(1), we are initiating a new shipper review of the antidumping duty order on certain preserved mushrooms from the PRC. In March 2002, each company listed above agreed to waive the normal time limit for the new shipper review in order that the Department, pursuant to 19 C.F.R. 351.214(j)(3), may conduct this review concurrent with the third annual administrative review of this order. The period of review for the third annual administrative review is February 1, 2000-January 31, 2001, which is being conducted pursuant to section 751(a)(1) of the Act. Therefore, we intend to issue the preliminary results of this new shipper review not later than 245 days after the last day of the anniversary month.

Antidumping Duty New Shipper Review Proceeding | Period to be Reviewed
Guangxi Yulin Oriental Food Co., Ltd. | 02/01/01 - 01/31/02
Shenzhen Qunxingyuan Trading Co., Ltd. | 02/01/01 - 01/31/02
Zhangzhou Jiangxiang Foods, Co., Ltd. | 02/01/01 - 01/31/02

We will instruct the Customs Service to allow, at the option of the importer, the posting, until the completion of the review, of a bond or security in lieu of a cash deposit for each entry of the merchandise exported by the above-listed companies. This action is in accordance with 19 C.F.R. 351.214(e).

Interested parties that need access to proprietary information in this new shipper review should submit applications for disclosure under administrative protective orders in accordance with 19 C.F.R. 351.305 and 351.306.

This initiation and notice are in accordance with section 751(a) of the Act (19 U.S.C. 1675(a)) and 19 C.F.R. 351.214(d).

Dated: March 29, 2002
Richard Moreland,
Deputy Assistant Secretary for Import Administration.

[FR Doc. 02-8163 Filed 4-3-02; 8:45 am]

BILLING CODE 3510-DS-S